DEPARTMENT OF ENERGY

Federal Energy Regulatory Commission

Combined Notice of Filings #1

Take notice that the Commission received the following electric rate filings:

Docket Numbers: ER13-830-001.

Applicants: J.P. Morgan Ventures Energy Corporation.

Description: J.P. Morgan Ventures Energy Corporation submits Cost-Based Tariffs Compliance Filing to be effective 4/1/2013.

Filed Date: 3/29/13.

Accession Number: 20130329-5225.

Comments Due: 5 p.m. ET 4/19/13.

Docket Numbers: ER13-894-000.

Applicants: Puget Sound Energy, Inc.

Description: Puget Sound Energy, Inc. submits Corrected FCSP ER11-3735 and ER13-894 to be effective N/A.

Filed Date: 3/29/13.

Accession Number: 20130329-5223.

Comments Due: 5 p.m. ET 4/19/13.

Docket Numbers: ER13-1188-008.

Applicants: Pacific Gas and Electric Company.

Description: Pacific Gas and Electric Company submits Eighth Amendment to Wholesale Distribution Tariff Rate Case 2013 (WDT2), Western to be effective 6/1/2013.

Filed Date: 3/29/13.

Accession Number: 20130329-5185.

Comments Due: 5 p.m. ET 4/19/13.

Docket Numbers: ER13-1188-009.

Applicants: Pacific Gas and Electric Company.

Description: Pacific Gas and Electric Company submits Ninth Amendment to Wholesale Distribution Tariff Rate Case 2013 (WDT2), WPA to be effective 6/1/2013.

Filed Date: 3/29/13.

Accession Number: 20130329-5215.

Comments Due: 5 p.m. ET 4/19/13.

Docket Numbers: ER13-1201-000.

Applicants: ALLETE, Inc.

Description: ALLETE, Inc. submits ALLETE Filing of Facilities Construction Agreement to be effective N/A.

Filed Date: 3/29/13.

Accession Number: 20130329-5240.

Comments Due: 5 p.m. ET 4/19/13.

Docket Numbers: ER13-1202-000.

Applicants: Massachusetts Electric Company.

Description: Massachusetts Electric Company submits Interconnection Agreement between Massachusetts Electric Co. and Plainville to be effective 5/29/2013.

Filed Date: 3/29/13.

Accession Number: 20130329-5243.

Comments Due: 5 p.m. ET 4/19/13.

Docket Numbers: ER13-1203-000.

Applicants: Brookfield Energy Marketing Inc.

Description: Brookfield Energy Marketing Inc. submits Category Seller Clarification to be effective 3/29/2013.

Filed Date: 3/29/13.

Accession Number: 20130329-5244.

Comments Due: 5 p.m. ET 4/19/13.

Docket Numbers: ER13-1204-000.

Applicants: Brookfield Energy Marketing LP.

Description: Brookfield Energy Marketing LP submits Category Seller Clarification to be effective 3/29/2013.

Filed Date: 3/29/13.

Accession Number: 20130329-5246.

Comments Due: 5 p.m. ET 4/19/13.

Docket Numbers: ER13-1205-000.

Applicants: Brookfield Renewable Energy Marketing US.

Description: Brookfield Renewable Energy Marketing US LLC submits Category Seller Clarification to be effective 3/29/2013.

Filed Date: 3/29/13.

Accession Number: 20130329-5249.

Comments Due: 5 p.m. ET 4/19/13.

Docket Numbers: ER13-1206-000.

Applicants: PacifiCorp.

Description: PacifiCorp submits OATT Revised Schedules 3 and 3A to be effective 6/1/2013.

Filed Date: 4/1/13.

Accession Number: 20130401-5000.

Comments Due: 5 p.m. ET 4/22/13.

Docket Numbers: ER13-1207-000.

Applicants: PacifiCorp.

Description: PacifiCorp submits OATT Revised Attachment H-1 (Depreciation Rates) to be effective 6/1/2013.

Filed Date: 4/1/13.

Accession Number: 20130401-5001.

Comments Due: 5 p.m. ET 4/22/13.

Docket Numbers: ER13-1208-000.

Applicants: Wisconsin Electric Power Company.

Description: Wisconsin Electric Power Company submits wholesale formula rate adjustment for Montfort Wind Facility.

Filed Date: 3/29/13.

Accession Number: 20130329-5256.

Comments Due: 5 p.m. ET 4/19/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2013.
Nathaniel J. Davis, Sr.,
Deputy Secretary.

[FR Doc. 2013-08055 Filed 4-5-13; 8:45 am]

BILLING CODE 6717-01-P